DEPARTMENT OF ENERGY

Federal Energy Regulatory Commission

[Project No. 14870-000]

Notice of Preliminary Permit Application Accepted for Filing and Soliciting Comments, Motions To Intervene, and Competing Applications; Flat Canyon Hydro, LLC

On March 7, 2018, the Flat Canyon Hydro, LLC, filed an application for a preliminary permit, pursuant to section 4(f) of the Federal Power Act (FPA), proposing to study the feasibility of the Flat Canyon Pumped Storage Project (Flat Canyon Project or project) to be located in Flat Canyon, near the City of Elsinore, Sevier County, Utah. The sole purpose of a preliminary permit, if issued, is to grant the permit holder priority to file a license application during the permit term. A preliminary permit does not authorize the permit holder to perform any land-disturbing activities or otherwise enter upon lands or waters owned by others without the owners' express permission.

The proposed project would be a closed-loop pumped storage hydropower facility that consists of the following: (1) A 37-acre upper reservoir having a total storage capacity of 1,800 acre-feet at a normal maximum operating elevation of 6,930 feet mean sea level (msl); (2) a 55-foot-high, 550-foot-long zoned earth/rockfill or concrete-faced upper reservoir dam; (3) a 55-foot-high, 525-foot-long zoned earth/rockfill or concrete-faced second upper reservoir dam; (4) a 1,350-foot-long, 15-foot-diameter low-pressure headrace tunnel either unlined or lined concrete-lined; (5) a 6,850-foot-long, 15-foot-diameter high-pressure headrace tunnel lined with either concrete or steel; (6) a 220-foot-long, 60-foot-wide, 120-foot-high powerhouse housed in an underground cavern and accessed via a 2,600-foot-long, 18-foot-diameter access tunnel, housing two variable-speed reversible pump/turbine-motor/generator units rated for 150 megawatts each at 1,370 feet maximum gross head; (7) a 2,400-foot-long, 17.5-foot-diameter tailrace tunnel lined with concrete; (8) a 37-acre lower reservoir having a total storage capacity 1,800 acre-feet at a normal maximum operating elevation of 5,630 feet msl; (9) a 75-foot-high, 850-foot-long zoned earth/rockfill or concrete-faced lower reservoir dam; (10) a 13-mile-long, 230-kilovolt (kV) transmission line extending from the powerhouse that would follow an existing transmission corridor to the Sigurd Substation owned by Rocky Mountain Power, or, if possible, a direct connection to Rocky Mountain Power's Sigurd-Red Butte No. 2 345-kV line adjacent to the project (the point of interconnection); and (11) appurtenant facilities. The estimated annual generation of the Flat Canyon Project would be 525.6 gigawatt-hours.

Applicant Contact: Matthew Shapiro, CEO, Gridflex Energy, LLC, 1210 W Franklin St, Ste. 2, Boise, Idaho 83702; phone: (208) 246-9925.

FERC Contact: Kyle Olcott; phone: (202) 502-8963.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14870-000.

More information about this project, including a copy of the application, can be viewed or printed on the eLibrary link of Commission's website at http://www.ferc.gov/docs-filing/elibrary.asp. Enter the docket number (P-14870) in the docket number field to access the document. For assistance, contact FERC Online Support.

Dated: April 12, 2018. .
Nathaniel J. Davis, Sr.,
Deputy Secretary.

[FR Doc. 2018-08078 Filed 4-17-18; 8:45 am]

BILLING CODE 6717-01-P